OFFICE OF GOVERNMENT ETHICS

Agency Information Collection Activities; Emergency Clearance Submission for Expedited OMB Review; Proposed Information Collection; Comment Request for a Proposed OGE Form 201-A Ethics in Government Act Access Form

AGENCY: Office of Government Ethics (OGE).

ACTION: Emergency clearance notice and request for agency and public comments.

SUMMARY: The Office of Government Ethics (OGE) is submitting a request to the Office of Management and Budget (OMB) for an expedited emergency clearance for the proposed OGE Form 201-A Ethics in Government Act access form under the Paperwork Reduction Act of 1995 (44 U.S.C. chapter 35). OGE is requesting a temporary 180-day approval, effective November 9, 2012.

DATES: Written comments by the public and the agencies on this proposed information collection are invited and must be received on or before November 6, 2012.

ADDRESSES: Comments, identified by the title of the information collection activity, may be submitted to the Office of Information and Regulatory Affairs, Attn: Mr. Kevin Herms, OMB Desk Officer for the Office of Government Ethics:

FAX: 202-395-5167, Attn: Mr. Kevin Herms, OMB Desk Officer for the Office of Government Ethics; Email: kherms@omb.eop.gov.

Comments should also be submitted to the Office of Government Ethics, Attn: Mr. Paul Ledvina, Agency Clearance Officer:

FAX: 202-482-9237, Attn: Mr. Paul Ledvina, Agency Clearance Officer; Email: usoge@oge.gov.

FOR FURTHER INFORMATION CONTACT: Paul Ledvina at the Office of Government Ethics; telephone: 202-482-9247; TTY: 800-877-8339; FAX: 202-482-9237; Email: paul.ledvina@oge.gov.

SUPPLEMENTARY INFORMATION: Title: Request to Inspect or Receive Electronic Copies of Executive Branch Personnel Public Financial Disclosure Reports, including Periodic Transaction Reports, filed on or after January 1, 2012.

Agency Form Number: OGE Form 201-A.

OMB Control Number: 3209-0002.

Type of Information Collection: New collection.

Type of Review Request: Emergency expedited review for temporary 180-day approval.

Respondents: Individuals requesting electronic access to executive branch public financial disclosure reports, including periodic transaction reports, filed on or after January 1, 2012, and posted to the Internet in accordance with section 11(a) of Public Law 112-105, 126 Stat. 291 (2012).

Estimated Annual Number of Respondents: 1,246.

Estimated Time per Response: 5 minutes.

Estimated Total Annual Burden: 104 hours.

Abstract: The proposed OGE Form 201-A would collect certain information from, and provide certain information to, persons who seek access to electronic copies of public financial disclosure reports, including periodic transaction reports, filed on or after January 1, 2012, and posted on the Internet in accordance with section 11(a) of Public Law 112-105, 126 Stat. 291 (2012). Specifically, the OGE Form 201-A would collect the following information from any requesting person seeking access to such reports: the person's name and the person's city, state and country of residence. OGE has the authority under section 402(b)(1) of the Ethics in Government Act to require executive branch agencies to collect such information before requested reports are made available to the requester. See 5 U.S.C. appendix section 402(b)(1), and 5 CFR 2634.603(c) and (f). The proposed OGE Form 201-A would be used solely in an automated, Web-based application. No statistics of previous usage are available upon which to base an estimated annual number of respondents because this proposed information collection is a new form. OGE's annual estimate is based upon the number of requests OGE has received for access to public financial disclosure reports of presidential appointees confirmed by the Senate through OGE's Web site via the new automated Office of Government Ethics Form 201 access request form. OGE received 408 requests during the six-month period from the initial launch of the new automated Office of Government Ethics Form 201 in March through August 2012. OGE then added the total number of access requests received by all other executive branch agencies, for a similar length of time, during the most recent period (calendar year 2011) for which executive branchwide statistics are available, which was 215 such requests. The total number of access request forms received by all executive branch agencies, including OGE, in a 6-month period totaled 623. This number was multiplied by two to provide the estimate of 1,246 annual respondents.

Request for Comments: Agency and public comment is invited specifically on the need for, and practical utility of, this information collection; the accuracy of OGE's burden estimate; the enhancement of quality, utility and clarity of the information collected; and the minimization of burden (including the use of information technology). Comments received in response to this notice will be summarized for, and may be included with, OGE's subsequent request to OMB for a 3-year paperwork approval. The comments will also become a matter of public record.

Approved: October 17, 2012.
Don W. Fox,
Acting Director, Office of Government Ethics.

[FR Doc. 2012-26101 Filed 10-31-12; 8:45 am]

BILLING CODE 6345-03-P